DEPARTMENT OF LABOR

Office of the Secretary

Submission for OMB Review: Comment Request

March 30, 2005.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or e-mail: king.darrin@dol.gov.

Comments should be sent to Office of Information and Regulatory Affairs, Attn: OMB Desk Officer for the Occupational Safety and Health Administration (OSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension of currently approved collection.

Title: Design of Cave-in Protection Systems.

OMB Number: 1218-0137.

Frequency: On occasion.

Type of Response: Recordkeeping.

Affected Public: Business or other for-profit.

Number of Respondents: 20,000.

Number of Annual Responses: 20,000.

Estimated Time Per Response: 2.08 hours.

Total Burden Hours: 20,222.

Total Annualized capital/startup costs: $0.

Total Annual Costs (operating/maintaining systems or purchasing services): $721,000.

Description: The requirements in 29 CFR 1926.652 for the design of cave-in protection systems are needed by employers in the construction industry and OSHA compliance officers to ensure that cave-in protection systems are designed, installed, and used in a manner to adequately protect employees.

Agency: Occupational Safety and Health Administration.

Type of Review: Extension of currently approved collection.

Title: Methylene Chloride (29 CFR 1910.1052).

OMB Number: 1218-0179.

Frequency: On occasion; Quarterly; Semi-annually; and Annually.

Type of Response: Recordkeeping and Third party disclosure.

Affected Public: Business or other for-profit; Federal Government; and State, Local, or Tribal Government.

Number of Respondents: 88,623.

Number of Annual Responses: 274,090.

Estimated Time Per Response: Varies from 1 hour for administering a medical examination to 5 minutes to maintain an employee's medical or exposure record.

Total Burden Hours: 64,305.

Total Annualized capital/startup costs: $0.

Total Annual Costs (operating/maintaining systems or purchasing services): $15,942,530.

Description: The information-collection requirements specified in the Methylene Chloride Standard (29 CFR 1910.1052) protect employees from the adverse health effects that may result from their exposure to methylene chloride (MC). The requirements in the MC Standard include employee exposure monitoring, notifying employees of their MC exposures, administering medical examinations to employees, providing examining physicians with specific program and employee information, ensuring that employees receive a copy of their medical examination results, training employees on the hazards of MC, maintaining employees' exposure-monitoring and medical examination records for specific periods, and providing access to these records by OSHA, the National Institute of Occupational Safety and Health, the affected employees, and their authorized representatives.

Ira L. Mills,
Departmental Clearance Officer.

[FR Doc. 05-6922 Filed 4-6-05; 8:45 am]

BILLING CODE 4510-26-P